DEPARTMENT OF DEFENSE

Department of the Army, Corps of Engineers

Intent To Prepare a Draft Supplemental Environmental Impact Statement for the Greenup Locks and Dam, General Reevaluation Report, Greenup County, KY

AGENCY: Department of the Army, U.S. Army Corps of Engineers, DoD.

ACTION: Notice of intent.

SUMMARY: Pursuant to the National Environmental Policy Act (NEPA), the U.S. Army Corps of Engineers (Corps), Huntington District will prepare a General Reevaluation Report (GRR) and Draft Supplemental Environmental Impact Statement (SEIS) to disclose potential impacts to the natural, physical, and human environment resulting from the implementation of alternatives to reduce foreseeable traffic delays and associated economic losses that occur during periodic maintenance at the Greenup Locks and Dam located on the Ohio River. A Feasibility Report and Environmental Impact Statement (EIS) was previously completed for the project in April 2000. This study recommended a 600-foot (ft) extension of the existing auxiliary lock chamber to a length of 1200 ft. The project was authorized by Congress in 2000; however, no funds have been appropriated for project construction. Due to the amount of time that has elapsed since completion of the Feasibility Report, and the associated economic, environmental and reliability changes that may have occurred during this time, the Federal interest must be reevaluated. The project alternatives being considered include the plans considered in the previous study as well as variations to these plans which may include both structural and nonstructural operational measures, and the No Action alternative.

DATES: A public scoping meeting will be held on June 28, 2012 from 5:30-7:30 p.m.

ADDRESSES: The public scoping meeting will be held in the Kentucky room of the Ashland Plaza Hotel, located at 1441 Winchester Avenue, Ashland, KY 41101.

FOR FURTHER INFORMATION CONTACT: Rebecca Black, U.S. Army Corps of Engineers, Huntington District, 502 Eighth Street, Huntington, WV 25701-2070. Telephone: (304) 399-5172. Email: Rebecca.L.Black@usace.army.mil.

SUPPLEMENTARY INFORMATION:

1. Authority: Investigation and justification of the proposed action was conducted under the authority of United States Senate, Committee on Public Works resolution dated May 16, 1955; and, United States House of Representatives, Committee on Public Works and Transportation resolution dated March 11, 1982. Construction of the project was authorized by Section 101(b) (15) of the Water Resources Development Act of 2000.

2. Background: a. The primary concern at Greenup Locks and Dam involves traffic delays. Greenup is one of the most heavily used locks on the Ohio River. When the main 1200 ft chamber is closed, all traffic must lock through the smaller, land-side 600 ft chamber resulting in long delays for all lockages. Reducing delays could save millions of dollars in transportation costs and reduce the impacts of waiting-tows on aquatic resources adjacent to the locks and dam. The Feasibility Report and EIS completed in 2000 considered various alternatives to either minimize maintenance closure time and/or to increase traffic throughput when one or the other chamber is closed to traffic.

b. In 2000, the Chief of Engineers recommended that the Greenup Locks and Dam be modified for the purposes of navigation efficiency and reliability. The Greenup plan of improvement included a 600 ft extension of the existing auxiliary lock chamber to a length of 1200 ft, extension of the downstream guidewall, filling and emptying system improvements, installation of a miter gate quick changeout system for faster repairs to the lock miter gates, an off-site dry dock to minimize transportation impacts during construction, and environmental mitigation measures.

c. The District is currently utilizing Operation and Maintenance funds to replace the miter gates in the main chamber. Replacement of the miter gates is expected to increase the reliability of main chamber operation, resulting in fewer traffic delays at the lock. In addition, barge traffic at the lock has decreased in recent years and future traffic forecasts are expected to reflect a continuation of that trend.

d. The without project conditions developed in the 2000 Feasibility Report and EIS have changed for the Greenup Locks due to the length of time since the report was completed, changes in the reliability of the main chamber, and a potential for decreased traffic at the project. Therefore, the Corps will complete a study to reevaluate the feasibility of project alternatives including their economic and environmental effects to identify federal interest.

3. Public Participation: a. The Corps will conduct a public scoping meeting (see DATES and ADDRESSES) to gain input from interested agencies, organizations, and the general public concerning the content of the SEIS, issues and impacts to be addressed in the document, and alternatives that should be analyzed.

b. The Corps invites full public participation to promote open communication and better decision-making. All persons and organizations that have an interest in the Greenup Lock improvements and its potential effects on the environment are urged to participate in this NEPA evaluation process. Assistance will be provided upon request to anyone having difficulty with learning how to participate.

c. Public comments are welcomed anytime throughout the NEPA process. Formal opportunities for public participation include: (1) Public meeting to be held in the community of Ashland; (2) Anytime during the NEPA process via mail, telephone or email; (3) During Review and Comment on the Draft SEIS; and (4) Review of the Final SEIS. Schedules and locations will be announced in local news media. Interested parties should submit contact information to be included on the mailing list for public distribution of meeting announcements and documents. Please address all written comments and suggestions concerning this proposed project to Natalie McKinley, CELRH-PM-PD-F, U.S. Army Corps of Engineers, Huntington District, 502 Eighth Street, Huntington, WV 25701-2070. Telephone: 304-399-5842. Email: Natalie.J.Mckinley@usace.army.mil.

4. Schedule: The GRR and Draft SEIS are scheduled to be released for public review and comment in June 2014. The Final GRR and SEIS are scheduled to be completed in September 2014.

Brenda S. Bowen,
Army Federal Register Liaison Officer.

[FR Doc. 2012-14555 Filed 6-13-12; 8:45 am]

BILLING CODE 3720-58-P